DEPARTMENT OF HEALTH AND HUMAN SERVICES

Centers for Disease Control and Prevention

[30Day-07-0603]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-4766 or send an e-mail to omb@cdc.gov. Send written comments to CDC Desk Officer, Office of Management and Budget, Washington, DC or by fax to (202) 395-6974. Written comments should be received within 30 days of this notice.

Proposed Project

Information Network (REACH IN)-Extension-National Center for Chronic Disease Prevention and Health Promotion (NCCDPHP), Centers for Disease Control and Prevention (CDC).

Background and Brief Description

Racial and Ethnic Approaches to Community Health 2010 (REACH 2010) currently funds forty local coalitions to establish community based programs and culturally appropriate interventions to eliminate racial and ethnic health disparities. Two previously funded grantees also retain access to the system. Communities served by REACH 2010 include: African American, American Indian, Hispanic American, Asian American, and Pacific Islander. These communities select among infant mortality, deficits in breast and cervical cancer screening and management, cardiovascular diseases, diabetes, HIV/AIDS, and deficits in childhood and adult immunizations to focus their interventions. Guided by logic models, each community articulates goals, objectives, and related activities; tracks whether goals and objectives are met, ongoing, or revised; and evaluates all program activities. This information is then entered into the REACH Information Network (REACH IN). REACH IN is a customized internet-based support system that allows REACH 2010 grantees to perform remote data entry and retrieval of data.

This support system is designed to create on-demand graphs and reports of grantees' activities and accomplishments, monitor progress toward the achievement of goals and objectives, and share and synthesize information across grantees' activities. Both quantitative and qualitative analyses can be performed. These analyses relate primarily to three stages of the REACH 2010 logic model: capacity building, targeted actions (interventions), and community and systems change and change among change agents. Users are supported with technical assistance and training, covering the usage of the system from a content/project goals perspective, and technical operations.

The annualized estimated burden is based on 42 respondents, including 40 currently funded grantees and two that were funded previously who retain access to the system. It is estimated that they each use the system four times a year to enter data, each data entry taking about 30 minutes.

There are no costs to the respondents other than their time. The total estimated annualized burden hours are 84.

Estimated Annualized Burden Table:

Type of responses or kinds of respondents | Nunber of respondents | Number of responses per respondent | Average burden per response (in hours)
REACH 2010 grantees | 42 | 4 | 30/60

Dated: December 6, 2006.
Deborah Holtzman,
Reports Clearance Officer, Centers for Disease Control and Prevention.

[FR Doc. E6-21118 Filed 12-11-06; 8:45 am]

BILLING CODE 4163-18-P